DEPARTMENT OF TRANSPORTATION

Federal Aviation Administration

14 CFR Part 39

[Docket No. FAA-2007-27223; Directorate Identifier 2006-NM-224-AD; Amendment 39-16976; AD 2012-05-04]

RIN 2120-AA64

Airworthiness Directives; The Boeing Company Airplanes

AGENCY: Federal Aviation Administration (FAA), Department of Transportation (DOT).

ACTION: Final rule.

SUMMARY: The FAA is adopting a new airworthiness directive (AD) for certain The Boeing Company Model 767 airplanes. This AD requires an inspection of the number 2 windows to determine whether the link arms are in the over-center position, and modifying the link arms of the number 2 windows in the flight compartment if necessary. This AD also requires the inspection, and modification if necessary, for airplanes that replace a modified assembly with an unmodified assembly. This AD results from reports of the number 2 windows opening during takeoff roll, which has resulted in aborted takeoffs. We are issuing this AD to prevent the opening of the number 2 windows during takeoff roll, which could adversely affect the flightcrew's ability to perform critical takeoff communication and result in an aborted takeoff or an unscheduled landing.

DATES: This AD becomes effective April 24, 2012.

The Director of the Federal Register approved the incorporation by reference of a certain publication listed in the AD as of April 24, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Emerson Hevia, Aerospace Engineer, Cabin Safety and Environmental Systems Branch, ANM-150S, FAA, Seattle Aircraft Certification Office, 1601 Lind Avenue SW., Renton, Washington 98057-3356; phone: 425-917-6414; fax: 425-917-6590; email: emerson.hevia@faa.gov.

SUPPLEMENTARY INFORMATION:

Discussion

The FAA issued a supplemental notice of proposed rulemaking (NPRM) to amend 14 CFR part 39 to include an AD that would apply to certain Boeing Model 767 airplanes. That supplemental NPRM was published in the Federal Register on November 21, 2008 (73 FR 70608). That supplemental NPRM proposed to require inspecting the number 2 windows to determine whether the link arms are in the over-center position, which would determine the need to modify the link arms of the number 2 windows in the flight compartment; and doing the inspection and corrective actions following any rigging change or replacement of any number 2 window assembly.

Comments

We provided the public the opportunity to participate in the development of this AD. We have considered the comments received on the supplemental NPRM (73 FR 70608, November 21, 2008).

Support for the Supplemental NPRM (73 FR 70608, November 21, 2008)

Continental Airlines (CAL) concurred with the proposed inspection and follow-on corrective action. The Air Line Pilots Association, International and UPS agreed with the supplemental NPRM (73 FR 70608, November 21, 2008).

Request To Refer to Structural Repair Manual (SRM) in the Service Information

CAL stated that note (f) of Figures 10 and 24 of Boeing Alert Service Bulletin 767-56A0010, Revision 1, dated January 24, 2008, needs to reference the Boeing 767-400 SRM.

We referred to Boeing Alert Service Bulletin 767-56A0010, Revision 1, dated January 24, 2008, as the appropriate source of service information in the supplemental NPRM (73 FR 70608, November 21, 2008). We agree that note (f) of Figures 10 and 24 of Boeing Alert Service Bulletin 767-56A0010, Revision 1, should identify the Boeing 767-400 SRM. However, since we issued the supplemental NPRM (73 FR 70608, November 21, 2008), Boeing has issued Revision 2, dated June 18, 2009, of Boeing Service Bulletin 767-56A0010 to clarify airplane/window assembly configurations that do not require on-going link arm inspections, and correct and/or clarify part numbers, part identifications, and other data given in the service bulletin figures. The Boeing 767-400 SRM is identified in Boeing Service Bulletin 767-56A0010, Revision 3, dated March 3, 2011. We have revised paragraphs (c) and (g) of this AD to refer to Boeing Service Bulletin 767-56A0010, Revision 3, dated March 3, 2011. We have also revised this AD to add new paragraph (h) of this AD to give credit to operators for actions done before the effective date of this AD in accordance with Boeing Alert Service Bulletin 767-56A0010, Revision 1, dated January 24, 2008; and Boeing Service Bulletin 767-56A0010, Revision 2, dated June 18, 2009; and have re-identified subsequent paragraphs accordingly.

Request To Designate Airplane Maintenance Manual (AMM) Task as Alternative Method of Compliance (AMOC) for Repeat Inspections

CAL requested that, for any subsequent inspection of the number 2 window link arm after the initial inspection (and modification), we designate Boeing 767 AMM Task 56-11-02-825-122 within Boeing 767 AMM 56-11-02/501 as an AMOC to the repeat inspection requirement of the supplemental NPRM (73 FR 70608, November 21, 2008). CAL stated that the over-center position inspection of the link arm specified in the AMM task is part of a comprehensive inspection/check. This task is utilized by the maintenance personnel any time the number 2 window is replaced or adjusted.

We partially agree. Boeing Service Bulletin 767-56A0010, Revision 3, dated March 3, 2011, addresses CAL's AMM suggestion. However, Revision 3 has no repetitive inspection. The inspection is done one time only, to inspect newly unmodified assemblies, as specified in new paragraph (i) of this AD. No further change to the AD is necessary in this regard.

Request To Remove Certain Airplanes From the Proposed Applicability

Boeing stated that subsequent to modification done in accordance with Boeing Service Bulletin 767-56A0010, Revision 3, dated March 3, 2011, the installation of window assembly part numbers that have been installed in production on airplanes after line number 929 should be considered terminating action.

From this statement, we infer that Boeing requested that airplanes having line numbers 930 and subsequent be excluded from the applicability of the supplemental NPRM (73 FR 70608, November 21, 2008). We agree that airplanes having line numbers 930 and subsequent are not affected by this AD for the reason stated by Boeing. These airplanes are not listed in the Effectivity of Boeing Service Bulletin 767-56A0010, Revision 3, dated March 3, 2011. As stated previously, we have revised the applicability to refer to Boeing Service Bulletin 767-56A0010, Revision 3, dated March 3, 2011.

Request To Clarify Paragraph (f) of the Supplemental NPRM (73 FR 70608, November 21, 2008) Regarding Terminating Actions

Boeing and American Airlines (AAL) stated that modifications done in accordance with Boeing Alert Service Bulletin 767-56A0010, Revision 1, dated January 24, 2008, should be considered a terminating action. Boeing added that installing a window having a part number listed in paragraph 2.C.3. of Boeing Service Bulletin 767-56A0010, Revision 3, dated March 3, 2011, should be considered a terminating action.

We infer that the commenters requested that we revise paragraph (f) of the supplemental NPRM (73 FR 70608, November 21, 2008) to clarify that doing the modification terminates the one-time inspection. We agree that clarification is needed. We have determined that either doing the modification specified in Boeing Service Bulletin 767-56A0010, Revision 3, dated March 3, 2011, or replacing the window assembly with an assembly that has the new part number specified in paragraph 2.C.3. of Boeing Service Bulletin 767-56A0010, Revision 3, dated March 3, 2011, terminates the inspection requirement of this AD. We have added new paragraph (i) to this AD to clarify the terminating action.

Request To Clarify Requirement for Removing Window

AAL requested clarification regarding window removal to accomplish the modification. AAL stated that window removal can be done at the operator's discretion. We agree that clarification is needed. Boeing Service Bulletin 767-56A0010, Revision 3, dated March 3, 2011, does not state that window removal is necessary nor does it limit the operator from removing the window during modification. Step 14 in Parts 4 and 8 has been removed from Boeing Service Bulletin 767-56A0010, Revision 3, dated March 3, 2011, to eliminate implication of window removal. No change has been made to this AD in this regard.

Request To Clarify Compliance Time

CAL stated that the compliance time has already started with the release of Boeing Alert Service Bulletin 767-56A0010, Revision 1, dated January 24, 2008. Therefore, CAL proposed that the compliance time start with the effective date of the AD.

From these statements, we infer that the commenter requested that we revise paragraph (f) of the supplemental NPRM (73 FR 70608, November 21, 2008) to clarify the proposed compliance time. We agree that clarification is necessary in this regard. We have added new paragraph (j) to this AD to specify this exception to Boeing Service Bulletin 767-56A0010, Revision 3, dated March 3, 2011. We have also revised paragraph (g) of this AD to refer to paragraph (j) of this AD, and reidentified subsequent paragraphs accordingly.

Request To Revise the AMM

UPS requested that the Boeing 767 AMM be revised to reflect the requirement for inspection and applicable corrective action. UPS asserted that neither Section 56-11-02-04, “Removal/Installation,” nor Section 56-11-02-06, “Adjustment/Test,” contains any direction for the operator to perform the prescribed inspection of the link arms to ensure that they are in the over-center position. UPS stated that failure to update these sections would result in an incomplete set of instructions for the continued airworthiness of the airplane. We acknowledge the commenter's request. The 767 AMM is only listed as a reference in Boeing Service Bulletin 767-56A0010, Revision 3, dated March 3, 2011. However, the inspection required by paragraph (g) of this AD must be done in accordance with Boeing Service Bulletin 767-56A0010, Revision 3, dated March 3, 2011, which contains illustrations that show the over-center position. Therefore, accomplishing the instructions in Boeing Service Bulletin 767-56A0010, Revision 3, dated March 3, 2011, addresses the identified unsafe condition. We have not changed the AD in this regard.

Request To Clarify General Visual Inspection

AAL requested clarification of the definition of a general visual inspection. AAL stated that the definition of a general visual inspection listed in Boeing Service Bulletin 767-56A0010, Revision 3, dated March 3, 2011, differs from the definition in the Boeing 767 Maintenance Review Board Report.

We agree to clarify the definition of a general visual inspection. The definition of a general visual inspection is correctly stated as the MSG-3 (maintenance steering group) definition in the Accomplishment Instructions of Boeing Service Bulletin 767-56A0010, Revision 3, dated March 3, 2011. No change has been made to the AD in this regard.

Additional Changes to Proposed AD

We have included the on-condition costs in the Cost of Compliance section of this AD.

We have added paragraph (d) to this AD to include the Joint Aircraft System Component (JASC)/Air Transport Association (ATA) of America Code, and re-identified subsequent paragraphs accordingly.

We have deleted the phrase “before further flight following any rigging change or replacement of any number 2 window assembly,” from paragraph (g) (formerly paragraph (f)) of this AD. Boeing Service Bulletin 767-56A0010, Revision 3, dated March 3, 2011, does not specify doing an inspection after doing the rigging change or replacing any number 2 window assembly. We have determined that this action is not necessary to address the identified unsafe condition except for airplanes on which modified windows were replaced with unmodified windows, as specified in paragraph (i) of this AD.

Conclusion

We reviewed the relevant data, considered the comments received, and determined that air safety and the public interest require adopting the AD with the changes described previously and minor editorial changes. We have determined that these minor changes:

• Αre consistent with the intent that was proposed in the SNPRM (73 FR 70608, November 21, 2008) for correcting the unsafe condition; and

• Do not add any additional burden upon the public than was already proposed in the SNPRM (73 FR 70608, November 21, 2008).

We also determined that these changes will not increase the economic burden on any operator or increase the scope of the AD.

Costs of Compliance

We estimate that this AD affects 384 airplanes of U.S. registry.

We estimate the following costs to comply with this AD:

Estimated Costs
Action | Labor cost | Parts cost | Cost per product | Cost on U.S. operators
General visual inspection | 1 work-hour × $85 per hour = $85 per inspection cycle | $0 | $85 per inspection cycle | $32,640 per inspection cycle.

We estimate the following costs to do any necessary modifications that would be required based on the results of the proposed inspection. We have no way of determining the number of aircraft that might need this modification:

On-Condition Costs
Action | Labor cost | Parts cost | Cost per product
Modifying link arm | Up to 19 work-hours × $85 per hour = $1,615 | Up to $7,013 | Up to $8,628.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

AD-2012-05-04 The Boeing Company: Amendment 39-16976. Docket No. FAA-2007-27223; Directorate Identifier 2006-NM-224-AD.

(a) Effective Date

This AD becomes effective April 24, 2012.

(b) Affected ADs

None.

(c) Applicability

This AD applies to The Boeing Company Model 767-200, -300, -300F, and -400ER series airplanes, certificated in any category, as identified in Boeing Service Bulletin 767-56A0010, Revision 3, dated March 3, 2011.

(d) Subject

Joint Aircraft System Component (JASC)/Air Transport Association (ATA) of America Code 56, Windows.

(e) Unsafe Condition

This AD results from reports of the number 2 windows in the flight compartment opening during takeoff roll, which has resulted in aborted takeoffs. We are issuing this AD to prevent the opening of the number 2 windows during takeoff roll, which could adversely affect the flightcrew's ability to perform critical takeoff communication and result in an aborted takeoff or an unscheduled landing.

(f) Compliance

Comply with this AD within the compliance times specified, unless already done.

(g) Inspection

Do a general visual inspection of the number 2 windows to determine whether the link arms are in the over-center position, and do all applicable modifications, in accordance with the Accomplishment Instructions of Boeing Service Bulletin 767-56A0010, Revision 3, dated March 3, 2011, except as provided by paragraph (i) of this AD. Except as required by paragraph (j) of this AD, do the actions at the applicable times specified in paragraph 1.E., “Compliance,” of Boeing Service Bulletin 767-56A0010, Revision 3, dated March 3, 2011. Do all applicable modifications before further flight.

(h) Credit for Previous Actions

This paragraph provides credit for inspections and applicable modifications, as required by paragraph (g) of this AD, if those actions were done before the effective date of this AD using Boeing Alert Service Bulletin 767-56A0010, Revision 1, dated January 24, 2008; or Boeing Service Bulletin 767-56A0010, Revision 2, dated June 18, 2009.

(i) Terminating Action and Replacing With an Unmodified Part

Doing the modification specified in Boeing Service Bulletin 767-56A0010, Revision 3, dated March 3, 2011, or replacing the assembly with a modified assembly identified in paragraph 2.C.3. of Boeing Service Bulletin 767-56A0010, Revision 3, dated March 3, 2011, terminates the inspection requirement for that particular assembly. For airplanes that replace the assembly with an unmodified assembly, do the actions required in paragraph (g) of this AD.

(j) Exception to Service Bulletin Specifications

Where Boeing Service Bulletin 767-56A0010, Revision 3, dated March 3, 2011, specifies a compliance time “after the Revision 1 date of the service bulletin,” this AD requires compliance within the specified time after the effective date of this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(l) Related Information

For more information about this AD, contact Emerson Hevia, Aerospace Engineer, Cabin Safety and Environmental Systems Branch, ANM-150S, FAA, 1601 Lind Avenue SW., Renton, Washington 98057-3356; phone: 425-917-6414; fax: 425-917-6590; email: emerson.hevia@faa.gov.

(m) Material Incorporated by Reference

You must use the following service information to do the actions required by this AD, unless the AD specifies otherwise. The Director of the Federal Register approved the incorporation by reference (IBR) under 5 U.S.C. 552(a) and 1 CFR part 51 of the following service information.

(1) Boeing Service Bulletin 767-56A0010, Revision 3, dated March 3, 2011.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 5, 2012.
Ali Bahrami,
Manager, Transport Airplane Directorate, Aircraft Certification Service.

[FR Doc. 2012-6118 Filed 3-19-12; 8:45 am]

BILLING CODE 4910-13-P